DEPARTMENT OF HOMELAND SECURITY

Coast Guard

33 CFR Part 117

[Docket No. USCG-2020-0056]

Drawbridge Operation Regulation; Fox River, Oshkosh, WI

AGENCY: Coast Guard, DHS.

ACTION: Notice of temporary deviation from regulations; request for comments.

SUMMARY: The Coast Guard has issued a temporary deviation from the operating schedule for the Canadian National Bridge, mile 55.72, over the Fox River to operate remotely. The request was made by the bridge owner. This test deviation will test the remote operations with tenders onsite, and will not change the operating schedule of the bridge.

DATES: This deviation is effective without actual notice from September 2, 2020 through 11:59 p.m. on October 8, 2020. For purposes of enforcement, actual notice will be used from 12:01 a.m. on April 26, 2020 to September 2, 2020 Comments and relate material must reach the Coast Guard on or before October 9, 2020.

ADDRESSES: You may submit comments identified by docket number USCG-2020-0056 using Federal eRulemaking Portal at https://www.regulations.gov.

See the “Public Participation and Request for Comments” portion of the SUPPLEMENTARY INFORMATION section below for instructions on submitting comments.

FOR FURTHER INFORMATION CONTACT: If you have questions on this test deviation, call or email Mr. Lee D. Soule, Bridge Management Specialist, Ninth Coast Guard District; telephone 216-902-6085, email Lee.D.Soule@uscg.mil.

SUPPLEMENTARY INFORMATION:

I. Background, Purpose and Legal Basis

In 2010 we published a Notice of Proposed Rule Making (NPRM) (USCG-2010-1029) to solicit comments concerning allowing the Canadian National Bridge, mile 55.72, over the Fox River to operate remotely. In addition to the regular remote monitoring equipment, the public requested that the bridge owner install and maintain additional warning lights. The NPRM was withdrawn because the railroad refused to install and maintain the additional warning lights the public requested. Recently, the Railroad has agreed that from April 27 through October 7 additional warning lights, specifically those alternating flashing red lights that mimic a Grade Crossing Signal commonly found at highway railroad crossing would be installed and maintained to warn mariners that the bridge was about to close. The remote operator shall also announce that the bridge is opening or closing on VHF-FM Marine Radiotelephone. The owners of the bridge shall maintain two board gauges in accordance with 33 CFR 118.160 of this chapter. The remote drawtender may be contacted by mariners at any time by radiotelephone or commercial phone number; this information shall be so posted on the bridge so that they are plainly visible to vessel operators approaching the up or downstream side of the bridge. The drawbridge currently operates under Title 33 of the Code of Federal Regulation (CFR), section 117.1087.

The bridge was remotely operated without authorization and was ordered to reinstate drawtenders at the bridge after the District Commander received numerous complaints that the bridge was not responsive.

The test deviation is necessary to allow the public to observe the bridge in operation and allow the permanent and seasonal residents of the area the opportunity to comment on the operation of the bridge.

Most of the marine traffic at the bridge is recreational to include both powered and unpowered vessels. Approximately 100 vessels pass through the bridge on average each day and most vessels require the bridge to open.

The test schedule will run from 12:01 a.m. on April 26, 2020 to 11:59 p.m. on October 8, 2020. During this test schedule, the bridge will operate remotely with tenders at the bridge to monitor the effectiveness of the remote equipment. The bridge owner will continue to maintain a drawtender's log and provide those logs at the end of the test deviation. Vessels able to safely pass under the bridge without an opening may do so at any time.

In accordance with 33 CFR 117.35(e), the drawbridge must return to its regular operating schedule immediately at the end of the effective period of this temporary deviation. This deviation from the operating regulations is authorized under 33 CFR 117.35.

II. Public Participation and Request for Comments

We view public participation as essential to effective rulemaking, and will consider all comments and material received during the comment period. Your comment can help shape the outcome of this rulemaking. If you submit a comment, please include the docket number for this rulemaking, indicate the specific section of this document to which each comment applies, and provide a reason for each suggestion or recommendation.

We encourage you to submit comments through the Federal eRulemaking Portal at https://www.regulations.gov. If your material cannot be submitted using https://www.regulations.gov, contact the person in the FOR FURTHER INFORMATION CONTACT section of this document for alternate instructions.

We accept anonymous comments. All comments received will be posted without change to https://www.regulations.gov and will include any personal information you have provided. For more about privacy and submissions in response to this document, see DHS's eRulemaking System of Records notice (85 FR 14226, March 11, 2020).

Documents mentioned in this test deviation as being available in this docket and all public comments, will be in our online docket at https://www.regulations.gov and can be viewed by following that website's instructions. Additionally, if you go to the online docket and sign up for email alerts, you will be notified when comments are posted or a final rule is published.

Dated: 12 August 2020.
D.L. Cottrell,
Rear Admiral, U.S. Coast Guard, Commander, Ninth Coast Guard District.

[FR Doc. 2020-18084 Filed 9-1-20; 8:45 am]

BILLING CODE 9110-04-P